DEPARTMENT OF ENERGY

Federal Energy Regulatory Commission

[Docket No. EC05-72-000, et al.]

Arizona Public Service Company, et al.; Electric Rate and Corporate Filings

April 28, 2005.

The following filings have been made with the Commission. The filings are listed in ascending order within each docket classification.

1. Arizona Public Service Company Pinnacle West Capital Corporation

[Docket No. EC05-72-000]

Take notice that on April 22, 2005, Arizona Public Service Company (APS) tendered for filing an application for authorization pursuant to section 203 of the Federal Power Act for APS to transfer to Pinnacle West Capital Corporation (PWCC) certain Commission-jurisdictional contracts.

Comment Date: 5 p.m. eastern time on May 13, 2005.

2. Atlantic City Electric Company, Potomac Electric Power Company, Delmarva Power & Light Company, Pepco Energy Services, Inc., Potomac Power Resources, LLC, Conectiv Energy Supply, Inc., Conectiv Atlantic Generation, LLC, Conectiv Delmarva Generation, Inc., Conectiv Bethlehem, LLC, Fauquier Landfill Gas, LLC, Rolling Hills Landfill Gas, LLC

[Docket Nos. ER96-1361-008, ER98-4138-004, ER99-2781-006, ER98-3096-010, ER01-202-003, ER00-1770-009, ER02-453-005, ER04-472-002, and ER04-529-002]

Take notice that on April 25, 2005, Atlantic City Electric Company, Potomac Electric Company, Delmarva Power & Light Company, Pepco Energy Services, Inc., Potomac Power Resources, LLC, Conectiv Energy Supply, Inc., Conectiv Atlantic Generation, LLC, Conectiv Delmarva Generation, Inc., Conectiv Bethlehem, LLC, Fauquier Landfill Gas, LLC, and Rolling Hills Landfill Gas, LLC, (jointly, the PHI Entities) submitted for filing proposed revisions to their respective market-based rate tariffs to incorporate the reporting requirements of the Commission's order, Reporting Requirement for Changes in Status for Public Utilities with Market-Based Rate Authority, Final Rule, 110 FERC ¶ 61,097 (2005) (Order No. 652). The PHI Entities state that copies of the filing were served on parties on the official service lists in the above-captioned proceedings.

Comment Date: 5 p.m. eastern time on May 5, 2005.

3. Midwest Independent Transmission System Operator, Inc.

[Docket Nos. ER03-580-005 and EL03-119-005]

Take notice that on June 25, 2004, Midwest Independent Transmission System Operator, Inc. (Midwest ISO) submitted a refund report in compliance with Commission's letter order issued March 3, 2004 in Docket Nos. ER03-580-000, 001, 002, 003, 004 and EL03-119-000.

Comment Date: 5 p.m. eastern time on May 11, 2005.

4. Pacific Gas and Electric Company

[Docket No. ER05-858-000]

Take notice that on April 25, 2005, Pacific Gas and Electric Company (PG&E) tendered for filing temporary modifications to Service Agreement No. 42 for network integration transmission service (NITS) between PG&E and the San Francisco Bay Area Rapid Transit District (BART).

PG&E states that copies of this filing have been served upon BART, the California Public Utilities Commission and the California Independent System Operator Corporation.

Comment Date: 5 p.m. eastern time on May 16, 2005.

5. Whiting Clean Energy, Inc.

[Docket No. ER05-860-000]

Take notice that on April 25, 2005, Whiting Clean Energy, Inc. (Whiting) tendered for filing a Power Sales Tariff. Whiting owns and operates a 525 MW generation facility located in Whiting, Indiana. Whiting states that, pursuant to the Power Sales Tariff, it will offer for sale energy and capacity at cost-based rates. In addition, Whiting states that if desired by a buyer under the Power Sales Tariff, Whiting will provide the buyer with the ability to increase or decrease the output of Whiting's generation facility through the use of automatic generation control equipment. Whiting requests an effective date of April 25, 2005.

Comment Date: 5 p.m. eastern time on May 5, 2005.

6. EnergyUSA-TPC Corp. Northern Indiana Public Service Company

[Docket No. ER05-865-000]

Take notice that on April 26, 2005, EnergyUSA-TPC Corp. (TPC) and Northern Indiana Public Service Company (NIPSCO) tendered for filing a purchased power agreement pursuant to which TPC will provide automatic generation control regulation capacity and energy to NIPSCO. TPC and NIPSCO state that they are corporate affiliates and have complied with all Commission requirements regarding purchased power agreements between affiliates.

Comment Date: 5 p.m. eastern time on May 6, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2193 Filed 5-4-05; 8:45 am]

BILLING CODE 6717-01-P